DEPARTMENT OF COMMERCE

International Trade Administration

DEPARTMENT OF THE INTERIOR

15 CFR Part 303

[Docket No. 040609177-4224-02]

RIN 0625-AA65

Changes in the Insular Possessions Watch, Watch Movement and Jewelry Programs

AGENCIES: Import Administration, International Trade Administration, Department of Commerce; Office of Insular Affairs, Department of the Interior.

ACTION: Final rule.

SUMMARY: The Departments of Commerce and the Interior (the Departments) amend their regulations governing watch duty-exemption allocations and the watch and jewelry duty-refund benefits for producers in the United States insular possessions (the U.S. Virgin Islands, Guam, American Samoa and the Commonwealth of the Northern Mariana Islands). The rule amends existing regulations by updating the maximum total value of watch components per watch that is eligible for duty-free entry into the United States under the insular program.

DATES: This rule is effective August 20, 2004.

FOR FURTHER INFORMATION CONTACT: Faye Robinson, (202) 482-3526.

SUPPLEMENTARY INFORMATION: : The Departments of Commerce and the Interior (the Departments) issue this rule to amend their regulations governing watch duty-exemption allocations and the watch and jewelry duty-refund benefits for producers in the United States insular possessions (the U.S. Virgin Islands, Guam, American Samoa and the Commonwealth of the Northern Mariana Islands). The background information and purpose of this rule is found in the preamble to the proposed rule (69 FR 39375, June 30, 2004) and is not repeated here.

The Departments amend 15 CFR 303.14(b)(3) by raising the maximum total value of watch components per watch that is eligible for duty-free entry into the U.S. from $500 to $800. The insular watch program producers requested an increase because of a substantial increase in the price of gold and the weakness of the dollar against the euro over the last several years. Also, there has not been an adjustment in the maximum value since 1998. Raising the value level of watch components that may be used in the assembly of duty-free watches will help producers maintain the degree of diversity in the kinds of watches they assemble, thereby affording them an opportunity to maintain or hopefully increase shipments and increase territorial employment.

ITA received four comments in response to the proposed rule and request for comments. The commenters expressed strong support for the proposed rule and thought that the long-term effect would be positive for the insular watch industry and its employees. Accordingly, the Departments adopt the provisions in the proposed rule without change.

Administrative Law Requirements

Administrative Procedure Act

The Departments waive the 30-day delay in effectiveness for this rule because this rule relieves a restriction. (See 5 U.S.C. 553(d)(1)). By raising the maximum value of watch components per watch that are eligible for duty-free entry, this rule will allow producers to import higher value watches than were allowed prior to the adoption of this rule. Therefore, this rule is effective upon publication.

Regulatory Flexibility Act

In accordance with the Regulatory Flexibility Act, 5 U.S.C. 601 et seq., the Chief Counsel for Regulation at the Department of Commerce has certified to the Chief Counsel for Advocacy, Small Business Administration, that the proposed rule would not have a significant economic impact on a substantial number of small entities. The factual basis for this certification was published in the proposed rule and is not repeated here. No comments were received regarding the economic impact of this rule on small entities. As a result, a final regulatory flexibility analysis is not required and has not been prepared.

Paperwork Reduction Act

This proposed rulemaking does not contain revised collection of information requirements subject to review and approval by the Office of Management and Budget (OMB) under the Paperwork Reduction Act of 1995. Collection activities are currently approved by the Office of Management and Budget under control numbers 0625-0040 and 0625-0134.

Notwithstanding any other provision of the law, no person is required to respond to, nor shall any person be subject to a penalty for failure to comply with a collection of information unless it displays a currently valid OMB Control Number.

E.O. 12866

It has been determined that the rulemaking is not significant for purposes of Executive Order 12866.

List of Subjects in 15 CFR Part 303

Administrative practice and procedure, American Samoa, Customs duties and inspection, Guam, Imports, Marketing quotas, Northern Mariana Islands, Reporting and recordkeeping requirements, Virgin Islands, Watches and jewelry.

For reasons set forth above, the Departments amend 15 CFR Part 303 as follows:

PART 303—WATCHES, WATCH MOVEMENTS AND JEWELRY PROGRAMS

1. The authority citation for 15 CFR Part 303 reads as follows:

Authority: Pub. L. 97-446, 96 Stat. 2331 (19 U.S.C. 1202, note); Pub. L. 103-465, 108 Stat. 4991; Pub. L. 94-241, 90 Stat. 263 (48 U.S.C. 1681, note); Pub. L. 106-36, 113 Stat. 167.

§ 303.14 [Amended]

2. Section 303.14 is amended by removing “$500” from the first sentence of paragraph (b)(3) and adding “$800” in its place.

James J. Jochum,
Assistant Secretary for Import Administration, Department of Commerce.
David B. Cohen,
Deputy Assistant Secretary for Insular Affairs, Department of the Interior.

[FR Doc. 04-19139 Filed 8-19-04; 8:45 am]

BILLING CODE 3510-DS-P; 4310-93-P